DEPARTMENT OF LABOR

Bureau of Labor Statistics

Data Users Advisory Committee; Notice of Meeting and Agenda

The Bureau of Labor Statistics Data Users Advisory Committee will meet on Thursday, May 20, 2021. In light of the travel restrictions and social distancing requirements resulting from the COVID-19 outbreak, this meeting will be held virtually.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The schedule and agenda for the meeting are as follows:

12:00 p.m. Commissioner's welcome and review of agency developments

12:30 p.m. Updating the Contingent Worker Supplement to the Current Population Survey

1:30 p.m. Break

1:40 p.m. Exploring new approaches to customer outreach and feedback

3:20 p.m. Concluding remarks

3:30 p.m. Conclusion

The meeting is open to the public. Anyone planning to attend the meeting should contact Lisa Fieldhouse, Data Users Advisory Committee, at fieldhouse.lisa@bls.gov. Any questions about the meeting should be addressed to Ms. Fieldhouse. Individuals who require special accommodations should contact Ms. Fieldhouse at least two days prior to the meeting date.

Signed at Washington, DC, this 20th day of April 2021.
Eric Molina,
Acting Chief, Division of Management Systems.

[FR Doc. 2021-08721 Filed 4-26-21; 8:45 am]

BILLING CODE 4510-24-P